DEPARTMENT OF ENERGY

Federal Energy Regulatory Commission

[Project No. 12686-003]

Baker County; Notice of Preliminary Permit Application Accepted for Filing and Soliciting Comments, Motions To Intervene, and Competing Applications

February 25, 2010.

On February 25, 2010, Baker County filed an application for a preliminary permit, pursuant to section 4(f) of the Federal Power Act, proposing to study the feasibility of the 3.4 megawatt Mason Dam Hydroelectric Project, located on the Powder River, in Baker County, Oregon. The proposed project would use the Bureau of Reclamation's existing Mason Dam, which impounds Phillips Lake. The sole purpose of a preliminary permit, if issued, is to grant the permit holder priority to file a license application during the permit term. A preliminary permit does not authorize the permit holder to perform any land disturbing activities or otherwise enter upon lands or waters owned by others without the owners' express permission.

The proposed project would consist of: (1) A proposed intake structure and penstock, (2) a proposed powerhouse with generating unit(s) having a total installed capacity of 3.4 MW, (3) an existing transmission line and possible additional new transmission line(s), and (4) appurtenant facilities. The project would have an annual generation of 7,982 MWh, which would be sold to a local utility.

Applicant Contact: Jason Yencopal, Baker County Project Manager, 1995 Third Street, Baker City, OR 97814.

FERC Contact: Kenneth Hogan, 202-502-8434 or Kenneth.hogan@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-12686) in the docket number field to access the document. For assistance, contact FERC Online Support.

Kimberly D. Bose,
Secretary.

[FR Doc. 2010-4614 Filed 3-4-10; 8:45 am]

BILLING CODE 6717-01-P